DEPARTMENT OF TRANSPORTATION

Federal Railroad Administration

Environmental Impact Statement: Relocation or Reconstruction of Rail Lines in Tupelo, MS

AGENCY: Federal Railroad Administration (FRA), Department of Transportation (DOT).

ACTION: Notice of intent to prepare an Environmental Impact Statement.

SUMMARY: The Federal Railroad Administration (FRA) is issuing this notice to advise the public that FRA will prepare an Environmental Impact Statement (EIS) for the relocation or reconstruction of railroad lines in the Tupelo, Mississippi central business district. The study area is defined to extend from the vicinity of Plantersville, MS, southeast of Tupelo, to the vicinity of Sherman, northwest of Tupelo. Tupelo is the primary business center of northeast Mississippi.

Currently, within the central business district there are more than 25 at-grade rail crossings on two railroad lines. One of the rail lines is owned by the BNSF Railway Company (BNSF) and the other by the Kansas City Southern Railroad (KCS). The two rail lines cross at an interchange near downtown Tupelo. There are between twenty and twenty-five trains per day on the BNSF line, and three or four per day on the KCS line. There are few rail customers remaining in the central business district, and most of the trains are through trains operating in the Birmingham, Alabama to Memphis, Tennessee corridor.

Traffic congestion is already a significant problem in the central business district, and the current rail line configuration is a contributing cause to this congestion. The switchyard between the two lines is within the central business district, and the BNSF line runs diagonally through the highest volume intersection in the city. Tupelo's employment has been growing at a steady pace of about 1,000 jobs per year for the last few years, which only increases vehicular traffic to the area and further exacerbates the situation. Moreover, issues with access to emergency facilities exist in that many Tupelo residents may be cut off from the regional medical center due to delays caused by the rail line and switching station.

The FRA has entered into a cooperative agreement with the Mississippi Department of Transportation (MDOT), with FRA as the lead Federal agency and MDOT as the lead state agency. Funding for the EIS was provided through an appropriation in the Transportation, Treasury, and Independent Agencies Appropriations Act, 2004, Public Law 108-199 (January 23, 2004).

FOR FURTHER INFORMATION CONTACT: Mr. Wayne Parrish, Planning Division, Mississippi Department of Transportation, 401 N. West Street, Jackson, MS 39201, telephone number (601) 359-7685; Mr. John Winkle, Project Manager, Federal Railroad Administration, 1120 Vermont Avenue, NW., Washington, DC 20590, telephone number (202) 493-6067.

Environmental Issues: Possible environmental impacts include displacement of commercial and residential properties, increased noise in some areas, effects to historical properties or archaeological sites, impacts to parks and recreational resources, viewshed effects, impacts to water resources, wetlands, and sensitive biological species and habitat, land use compatibility impacts, energy use, and impacts to agricultural lands.

Alternatives: The EIS will consider alternatives that include: (1) Taking no action; (2) reconstruction with grade separation of rail and highway facilities within the existing corridors; and (3) relocation and construction of the railroad line(s) in new location(s).

Scoping and Comment: FRA encourages broad participation in the EIS process and review of the resulting environmental documents. Comments, questions, and suggestions related to the project and potential environmental concerns are invited from all interested agencies and the public at large to ensure that the full range of issues related to the proposed action and all reasonable alternatives are addressed and all significant issues are identified. These comments, questions, and suggestions should be addressed to the MDOT or the FRA at the addresses provided above. The public is invited to participate in the scoping process, to review the Draft EIS when published, and to provide input at all public meetings. Letters describing the proposed scope of the EIS and soliciting comments will be sent to appropriate Federal, State, and local agencies, elected officials, community organizations, and to private organizations and citizens who express interest in this proposal. Several public meetings to be advertised in the local media will be held in the project area regarding this proposal. Release of the Draft EIS for public comment and public meetings and hearings related to that document will be announced as those dates are established. A scoping meeting will be conducted in the Tupelo area at a date and place, which will be widely publicized well in advance of the meeting.

Persons interested in providing comments on the scope of the EIS should do so within 30 days of the publication of this Notice of Intent. Comments can be sent in writing to the points of contact listed above.

Issued in Washington, DC, on June 23, 2006.
Mark E. Yachmetz,
Associate Administrator for Railroad Development, Federal Railroad Administration.

[FR Doc. 06-5822 Filed 6-28-06; 8:45 am]

BILLING CODE 4910-06-P